DEPARTMENT OF TRANSPORTATION

Federal Aviation Administration

14 CFR Part 39

[Docket No. FAA-2009-0791; Directorate Identifier 2008-NM-213-AD]

RIN 2120-AA64

Airworthiness Directives; Dassault Model Falcon 2000 and Falcon 2000EX Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During the overhaul of a Main Landing Gear (MLG) of a Falcon 2000, the sleeve on the hydraulic flow restrictor in the shock absorber was found displaced, because of the rupture of its three retaining screws. * * *

Failure of the retaining screws has been determined to be the final phase of a slow unscrewing process under normal operational conditions. The unsafe condition only exists once the three screws have failed.

* * * * *

The unsafe condition is failure of three retaining screws of the MLG shock absorber which could result in collapse of the landing gear during ground maneuvers or landing. The proposed AD would require actions that are intended to address the unsafe condition described in the MCAI.

DATES: We must receive comments on this proposed AD by October 26, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Dassault Falcon Jet, P.O. Box 2000, South Hackensack, New Jersey 07606; telephone 201-440-6700; Internet http://www.dassaultfalcon.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2009-0791; Directorate Identifier 2008-NM-213-AD” at the beginning of your comments. We specifically invite comments on the overall regulatory, economic, environmental, and energy aspects of this proposed AD. We will consider all comments received by the closing date and may amend this proposed AD based on those comments.

We will post all comments we receive, without change, to http://www.regulations.gov; including any personal information you provide. We will also post a report summarizing each substantive verbal contact we receive about this proposed AD.

Discussion

The European Aviation Safety Agency (EASA), which is the Technical Agent for the Member States of the European Community, has issued EASA Airworthiness Directive 2009-0050, dated March 5, 2009 (referred to after this as “the MCAI”), to correct an unsafe condition for the specified products. The MCAI states:

During the overhaul of a Main Landing Gear (MLG) of a Falcon 2000, the sleeve on the hydraulic flow restrictor in the shock absorber was found displaced, because of the rupture of its three retaining screws. In this situation, the energy dissipation function of the shock absorber is lost and high loads may be transmitted to the aircraft structure during landing. Structural integrity may thus not be guaranteed over the entire certified landing conditions domain particularly in combination of high landing weight and high vertical speed.

Failure of the retaining screws has been determined to be the final phase of a slow unscrewing process under normal operational conditions. The unsafe condition only exists once the three screws have failed.

For the reasons described above, Airworthiness Directive (AD) 2008-0178 had been released to require a repetitive borescope inspection of the flow restriction system [for damage; such as condition of the sleeve of the dumping device, and broken or loose screws] and, if necessary, repair of the shock absorber per Dassault Aviation Service Bulletins (SB) F2000-367 and F2000EX-185 (corresponding to modification M3120) developed with the landing gear manufacturer's instructions.* * *

After qualification testing, modification M3120 has been approved by EASA as a definitive solution.

As a consequence, the present AD retains the requirements of AD 2008-0178 which is superseded and introduces M3120 as a terminating action to the repetitive inspections requirement, and further mandates its embodiment no later than the next MLG shock absorber overhaul.

The unsafe condition is failure of three retaining screws of the MLG shock absorber which could result in collapse of the landing gear during ground maneuvers or landing. The repair can include additional inspections, modifying the shock absorbers, and contacting the manufacturer for repair instructions and doing the repair before further flight. You may obtain further information by examining the MCAI in the AD docket.

Relevant Service Information

Dassault has issued Mandatory Service Bulletin F2000EX-167, Revision 1, dated December 1, 2008; Service Bulletin F2000EX-185, Revision 2, dated February 4, 2009; Mandatory Service Bulletin F2000-366, Revision 2, dated December 1, 2008; and Service Bulletin F2000-367, Revision 4, dated February 4, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a note within the proposed AD.

Costs of Compliance

Based on the service information, we estimate that this proposed AD would affect about 236 products of U.S. registry. We also estimate that it would take about 25 work-hours per product to comply with the basic requirements of this proposed AD. The average labor rate is $80 per work-hour. Required parts would cost about $0 per product. Where the service information lists required parts costs that are covered under warranty, we have assumed that there will be no charge for these costs. As we do not control warranty coverage for affected parties, some parties may incur costs higher than estimated here. Based on these figures, we estimate the cost of the proposed AD on U.S. operators to be $472,000, or $2,000 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dassault Aviation: Docket No. FAA-2009-0791; Directorate Identifier 2008-NM-213-AD.

Comments Due Date

(a) We must receive comments by October 26, 2009.

Affected ADs

(b) None.

Applicability

(c) This AD applies to all Dassault Model Falcon 2000 and Falcon 2000EX airplanes, certificated in any category.

Subject

(d) Air Transport Association (ATA) of America Code 32: Landing gear.

Reason

(e) The mandatory continuing airworthiness information (MCAI) states:

During the overhaul of a Main Landing Gear (MLG) of a Falcon 2000, the sleeve on the hydraulic flow restrictor in the shock absorber was found displaced, because of the rupture of its three retaining screws. In this situation, the energy dissipation function of the shock absorber is lost and high loads may be transmitted to the aircraft structure during landing. Structural integrity may thus not be guaranteed over the entire certified landing conditions domain particularly in combination of high landing weight and high vertical speed.

Failure of the retaining screws has been determined to be the final phase of a slow unscrewing process under normal operational conditions. The unsafe condition only exists once the three screws have failed.

For the reasons described above, Airworthiness Directive (AD) 2008-0178 had been released to require a repetitive borescope inspection of the flow restriction system [for damage; such as condition of the sleeve of the dumping device, and broken or loose screws] and, if necessary, repair of the shock absorber per Dassault Aviation Service Bulletins (SB) F2000-367 and F2000EX-185 (corresponding to modification M3120) developed with the landing gear manufacturer's instructions.* * *

After qualification testing, modification M3120 has been approved by the European Aviation Safety Agency (EASA), as a definitive solution.

As a consequence, the present AD retains the requirements of AD 2008-0178 which is superseded and introduces M3120 as a terminating action to the repetitive inspections requirement, and further mandates its embodiment no later than the next MLG shock absorber overhaul.

The unsafe condition is failure of three retaining screws of the MLG shock absorber which could result in collapse of the landing gear during ground maneuvers or landing. The repair can include additional inspections, modifying the shock absorbers, and contacting the manufacturer for repair instructions and doing the repair before further flight.

Actions and Compliance

(f) Unless already done, do the following actions.

(1) For airplanes on which each new or previously overhauled MLG shock absorber has accumulated 4,200 or more total landings since new or overhauled as of the effective date of this AD: Within 8 months after the effective date of this AD, inspect the shock absorber for damage, in accordance with the Accomplishment Instructions of Dassault Mandatory Service Bulletin F2000-366, Revision 2; or F2000EX-167, Revision 1; both dated December 1, 2008, as applicable. If any damage is found, before further flight, repair the shock absorber in accordance with the Accomplishment Instructions of Dassault Mandatory Service Bulletin F2000-366, Revision 2; or F2000EX-167, Revision 1; both dated December 1, 2008, as applicable.

(2) For airplanes on which each new or previously overhauled MLG shock absorber has accumulated 1,900 or more total landings and less than 4,200 total landings since new or overhauled as of the effective date of this AD: At the applicable compliance time specified in paragraph (f)(2)(i) or (f)(2)(ii) of this AD, inspect the shock absorber for damage, in accordance with the Accomplishment Instructions of Dassault Mandatory Service Bulletin F2000-366, Revision 2; or F2000EX-167, Revision 1; both dated December 1, 2008, as applicable. If any damage is found, before further flight, repair the shock absorber in accordance with the Accomplishment Instructions of Dassault Mandatory Service Bulletin F2000-366, Revision 2; or F2000EX-167, Revision 1; both dated December 1, 2008, as applicable.

(i) For airplanes on which 6 or more steep-approach landings have been performed before the effective date of this AD: Within 8 months after the effective date of this AD, do the actions required by paragraph (f)(2) of this AD.

(ii) For airplanes on which less than or equal to 5 steep-approach landings have been performed before the effective date of this AD: Within 18 months after the effective date of this AD or 5,000 total landings since new or overhauled, whichever occurs first, do the actions required by paragraph (f)(2) of this AD.

(3) For airplanes on which each new or previously overhauled MLG shock absorber has accumulated less than 1,900 total landings since new or overhauled as of the effective date of this AD: Before the accumulation of 3,000 total landings since new or overhauled, inspect the shock absorber for damage, in accordance with the Accomplishment Instructions of Dassault Mandatory Service Bulletin F2000-366, Revision 2; or F2000EX-167, Revision 1, both dated December 1, 2008, as applicable. If any damage is found, before further flight, repair the shock absorber in accordance with the Accomplishment Instructions of Dassault Mandatory Service Bulletin F2000-366, Revision 2, or F2000EX-167, Revision 1; both dated December 1, 2008, as applicable.

(4) Repeat the inspections required by paragraphs (f)(1), (f)(2), and (f)(3) of this AD, as applicable, thereafter at intervals not to exceed 1,900 landings until accomplishment of paragraph (f)(6) of this AD.

(5) Accomplishment of any inspection or repair before the effective date of this AD in accordance with the applicable service information in Table 1 of this AD is acceptable for compliance with the corresponding requirements of this AD.

Table 1—Credit Service Information
Document | Revision | Date
Dassault Service Bulletin F2000-366 | Original | April 18, 2008.
Dassault Mandatory Service Bulletin F2000-366 | 1 | August 18, 2008.
Dassault Mandatory Service Bulletin F2000EX-167 | Original | August 18, 2008.

(6) For airplanes on which Dassault Modification M3120 has not been embodied as of the effective date of this AD: Before the accumulation of 6,000 total landings or 144 months on each new or previously overhauled MLG shock absorber, whichever occurs first: Modify the existing left- and right-hand MLG shock absorbers by installing MLG shock absorbers with part number (P/N) D23365000-4 or D23366000-4 (for Falcon 2000 airplanes) or D23745000-2 or D23746000-2 (for Falcon 2000EX airplanes), in accordance with the Accomplishment Instructions of Dassault Service Bulletin F2000EX-185, Revision 2; or F2000-367, Revision 4; both dated February 4, 2009, as applicable. Where the service bulletins specify contacting the manufacturer for repair instructions, before further flight, contact the manufacturer and do the repair.

(7) Accomplishment of the modification required by paragraph (f)(6) of this AD before the effective date of this AD in accordance with the applicable service information in Table 2 of this AD is acceptable for compliance with the corresponding requirements of this AD.

Table 2—Credit Service Information
Document | Revision | Date
Dassault Service Bulletin F2000EX-185 | Original | August 18, 2008.
Dassault Service Bulletin F2000EX-185 | 1 | December 1, 2008.
Dassault Service Bulletin F2000-367 | 1 | July 10, 2008.
Dassault Service Bulletin F2000-367 | 2 | August 18, 2008.
Dassault Service Bulletin F2000-367 | 3 | December 1, 2008.

(8) Accomplishment of the modification required by paragraph (f)(6) of this AD ends the repetitive inspections required by paragraph (f)(4) of this AD.

(9) As of the effective date of this AD, no person may install on any airplane as a replacement part, a MLG shock absorber, unless it has been modified according to the requirements in paragraph (f)(6) of this AD.

FAA AD Differences

Note 1: This AD differs from the MCAI and/or service information as follows:

(1) Although the MCAI requires repairing any damage within the applicable time or landing limits specified in Dassault Mandatory Service Bulletin F2000-366, Revision 2, or F2000EX-167, Revision 1, both dated December 1, 2008; this AD requires that the repair be done before further flight.

(2) Paragraph (1) of the MCAI requires updating the operator's maintenance program; however, that action is not required by this AD. The maintenance program does not require FAA approval.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2009-0050, and the service information in Table 3 of this AD, for related information.

Table 3—Service Information
Document | Revision | Date
Dassault Mandatory Service Bulletin F2000EX-167 | 1 | December 1, 2008.
Dassault Service Bulletin F2000EX-185 | 2 | February 4, 2009.
Dassault Mandatory Service Bulletin F2000-366 | 2 | December 1, 2008.
Dassault Service Bulletin F2000-367 | 4 | February 4, 2009.

Issued in Renton, Washington, on September 16, 2009.
Ali Bahrami,
Manager, Transport Airplane Directorate, Aircraft Certification Service.

[FR Doc. E9-23095 Filed 9-23-09; 8:45 am]

BILLING CODE 4910-13-P